DEPARTMENT OF THE INTERIOR

National Park Service

[NPS-WASO-NAGPRA-22847; PPWOCRADN0-PCU00RP14.R50000]

Notice of Inventory Completion: St. Joseph Museums, Inc., St. Joseph, MO

AGENCY: National Park Service, Interior.

ACTION: Notice.

SUMMARY: The St. Joseph Museums, Inc., has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the St. Joseph Museums, Inc. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the St. Joseph Museums, Inc., at the address in this notice by April 6, 2017.

ADDRESSES: Trevor Tutt, St. Joseph Museums, Inc., P.O. Box 8096, St. Joseph, MO 64508, telephone (816) 232-8471, email trevor@stjosephmuseum.org.

SUPPLEMENTARY INFORMATION: Notice is here given in accordance with the Native American Graves Protection and Repatriation Act (NAGPRA), 25 U.S.C. 3003, of the completion of an inventory of human remains and associated funerary objects under the control of the St. Joseph Museums, Inc. The human remains and associated funerary objects were removed from multiple counties in the state of Missouri.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the St. Joseph Museums, Inc., professional staff in consultation with representatives of Iowa Tribe of Kansas and Nebraska; Iowa Tribe of Oklahoma; Sac & Fox Nation of Missouri in Kansas and Nebraska; Sac & Fox Nation, Oklahoma; and The Osage Nation (previously listed as the Osage Tribe).

History and Description of the Remains

In 1975, human remains representing, at minimum, one individual were removed from site 23AT21 near Rock Creek in Atchison County, MO. The site was discovered during the construction of Highway I-29. When the site was discovered, construction ceased and Missouri Highway geologist Bill Herndon and state archeologists Don Reynolds and Mike Fisher excavated the site. The human remains were donated to the St. Joseph Museums, Inc., and accessioned in 1992. No known individual was identified. There are, at minimum, 800 individual bone fragments from the site. The seven associated funerary objects are 1 chert; 4 containers of charcoal and bone; and 2 bison horns.

In 1961, human remains representing, at minimum, one individual were removed from the Big Ditch site (23AT15) in Atchison County, MO. The site was excavated and the human remains and funerary objects were donated to the St. Joseph Museums, Inc., at an unknown date. No known individual was identified. The 32 associated funerary objects are 22 sherds; 3 projectile points; 1 bison horn; 1 scraper; 4 lime nodules; and 1 stone.

From the early 1900s through 1989, human remains representing, at minimum, seven individuals were removed from The King Hill site (23BN1) in Buchanan County, MO. The King Hill site (23BN1) is identified as a burial mound within the city of St. Joseph, MO and is a frequent site of archeological investigation. No known individuals were identified. The 623 associated funerary objects are 1 piece of wood, 66 stones and rock samples, 16 shells, 1 screw, 5 scrapers, 28 rimsherds, 1 projectile point, 457 potsherds, 2 ornaments, 3 concretion, 1 hearthstone, 1 pot handle, 1 fossil, 29 chert, 3 coal, 1 bullet casing, 4 brick and mortar, and 3 botanical remains.

In 1982, human remains representing, at minimum, three individuals were removed from Enterprise Hill in Buchanan County, MO. The human remains were donated to the St. Joseph Museums, Inc., at an unknown date by Whipple S. Newell. No known individuals were identified. The 42 associated funerary objects are 1 sherd; 6 shells; 13 pendants; 1 flake; 8 charcoal; and 13 beads.

In 1981, human remains representing, at minimum, one individual were removed from Benton High School in Buchanan County, MO. No known individual was identified. No associated funerary objects are present.

In 1982, human remains representing, at minimum, one individual were removed from site 23AN35 in Andrew County, MO and donated to the St. Joseph Museums, Inc., by Kenneth Lawrie at an unknown date. No known individual was identified. The 41 associated funerary objects are 1 stone; 35 sherds; 4 pieces of clay; and 1 daub.

In the mid to late 1900s, human remains representing at minimum, one individual were removed from site 23JA24 in Jackson County, MO by J. Mett Shippee. These human remains were donated to the St. Joseph Museums, Inc., in 1992. No known individual was identified. No associated funerary objects are present.

All the sites listed in this notice are affiliated with the Iowa, Omaha, Osage, Otoe-Missouria, and Sac & Fox tribes.

Determinations Made by the St. Joseph Museums, Inc.

Officials of the St. Joseph Museums, Inc., have determined that:

• Pursuant to 25 U.S.C. 3001(9), the human remains described in this notice represent the physical remains of 15 individuals of Native American ancestry.

• Pursuant to 25 U.S.C. 3001(3)(A), the 745 objects described in this notice are reasonably believed to have been placed with or near individual human remains at the time of death or later as part of the death rite or ceremony.

• Pursuant to 25 U.S.C. 3001(2), there is a relationship of shared group identity that can be reasonably traced between the Native American human remains and associated funerary objects and Iowa Tribe of Kansas and Nebraska; Iowa Tribe of Oklahoma; Omaha Tribe of Nebraska; Otoe-Missouria Tribe of Indians, Oklahoma; Sac & Fox Nation of Missouri in Kansas and Nebraska; Sac & Fox Nation, Oklahoma; Sac & Fox Tribe of the Mississippi in Iowa; and The Osage Nation (previously listed as the Osage Tribe).

Additional Requestors and Disposition

Lineal descendants or representatives of any Indian tribe or Native Hawaiian organization not identified in this notice that wish to request transfer of control of these human remains and associated funerary objects should submit a written request with information in support of the request to: Trevor Tutt, St. Joseph Museums, Inc., P.O. Box 8096, St. Joseph, MO 64508, telephone (816) 232-8471, email trevor@stjosephmuseum.org, by April 6, 2017. After that date, if no additional requestors have come forward, transfer of control of the human remains and associated funerary objects to Iowa Tribe of Kansas and Nebraska; Iowa Tribe of Oklahoma; Omaha Tribe of Nebraska; Otoe-Missouria Tribe of Indians, Oklahoma; Sac & Fox Nation of Missouri in Kansas and Nebraska; Sac & Fox Nation, Oklahoma; Sac & Fox Tribe of the Mississippi in Iowa; and The Osage Nation (previously listed as the Osage Tribe) may proceed.

The St. Joseph Museums, Inc., is responsible for notifying Iowa Tribe of Kansas and Nebraska; Iowa Tribe of Oklahoma; Omaha Tribe of Nebraska; Otoe-Missouria Tribe of Indians, Oklahoma; Sac & Fox Nation of Missouri in Kansas and Nebraska; Sac & Fox Nation, Oklahoma; Sac & Fox Tribe of the Mississippi in Iowa; and The Osage Nation (previously listed as the Osage Tribe) that this notice has been published.

Dated: February 1, 2017.
Melanie O'Brien,
Manager, National NAGPRA Program.

[FR Doc. 2017-04402 Filed 3-6-17; 8:45 am]

BILLING CODE 4312-52-P